DEPARTMENT OF COMMERCE

International Trade Administration

Notice of Scope Rulings

AGENCY: Enforcement and Compliance, International Trade Administration, Department of Commerce.

DATES: Applicable February 3, 2023.

SUMMARY: The Department of Commerce (Commerce) hereby publishes a list of scope rulings and circumvention determinations made during the period October 1, 2022, through December 31, 2022. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on November 21, 2022.² This current notice covers all scope rulings and scope ruling/circumvention determination combinations made by Enforcement and Compliance between October 1, 2022, and December 31, 2022.

¹ See 19 CFR 351.225(o).

² See Notice of Scope Rulings, 87 FR 70787 (November 21, 2022).

Scope Rulings Made October 1, 2022, Through December 31, 2022: People's Republic of China (China)

A-570-967 and C-570-968: Aluminum Extrusions From China

Requestor: Central Purchasing, LLC dba Harbor Freight Tools. Three models of aluminum pair ramps are not covered by the antidumping duty (AD) and countervailing duty (CVD) orders on aluminum extrusions from China because they satisfy the requirements for the finished merchandise exclusion; October 31, 2022.

A-570-979 and C-570-980: Crystalline Silicon Photovoltaic Cells, Whether or Not Assembled Into Modules, From China

Requestor: RNG International Inc. (RNG) Off-grid 100-watt solar panels with regular monocrystalline solar cells (model numbers RNG-KIT-STCS100D-NC, RNG-KIT-STCS100D[1]VOY20, RNG-100D-SS, and RNG-100DB-H) and off-grid 50-watt solar panels (model numbers RNG-50D-SS and RKIT50DST) imported by RNG from China are not within the scope of the AD/CVD orders on crystalline silicon photovoltaic cells, whether or not assembled into modules, from China because the orders' scope language is dispositive that the products subject to the request are not within the scope of the orders; November 7, 2022.

A-570-891: Hand Trucks and Certain Parts Thereof From China

Requestor: Carbon, Inc. One cassette cart is not covered by the AD order on hand trucks and certain parts thereof from China because the cart lacks a projecting edge or toeplate capable of sliding under a load for the purposes of lifting and/or moving the load: December 20, 2022.

A-570-124 and C-570-125: Certain Vertical Shaft Engines Between 99cc and Up to 225cc, and Parts Thereof, From China

Requestor: Briggs and Stratton, LLC. Modified vertical shaft engines, such as the modified R210-S engine manufactured by Chongqing Rato Technology Co., Ltd., fall within the scope of the AD/CVD orders on certain vertical shaft engines between 99cc and Up To 225cc, and parts thereof, from China because we find that these engines have a vertical power take off shaft and otherwise meet the description of in-scope merchandise; December 22, 2022.

Preliminary Scope Rulings Made October 1, 2022, Through December 31, 2022: China

A-570-601: Tapered Roller Bearings and Parts Thereof, Finished and Unfinished, From China

Requestor: Dorman Products Inc. (Dorman) Preliminary scope ruling that eight models of rear loaded knuckles that Dorman imports from China are not covered by the scope of the AD order on tapered roller bearings and parts thereof, finished and unfinished, from China based on the criteria set forth under 19 CFR 351.225(k)(3); October 21, 2022.

A-570-082 and C-570-083: Certain Steel Wheels From China

Requestor: Asia Wheel Co., Ltd. (Asia Wheel) Preliminary scope ruling that the truck wheels manufactured by Asia Wheel in Thailand using Chinese-origin discs and rims manufactured in Thailand from Chinese-origin (or another foreign country) steel sheet plates are subject to the scope of the AD/CVD orders on certain steel wheels from China; December 13, 2022.

Circumvention Determination Made October 1, 2022, Through December 31, 2022

A-570-124 and C-570-125: Certain Vertical Shaft Engines Between 99cc and Up to 225cc, and Parts Thereof, From China: 60cc Up to 99cc Engines

Requestor: Briggs & Stratton, LLC. Final circumvention ruling that vertical shaft engines with displacements between 60 cubic centimeters (cc) and up to 99cc produced in China and exported to the United States are circumventing the AD/CVD orders on small vertical engines from China by means of being merchandise “altered in form or appearance in minor respects”; December 16, 2022.

Notification to Interested Parties

Interested parties are invited to comment on the completeness of this list of completed scope inquiries and scope/circumvention inquiry combinations made during the period October 1, 2022, through December 31, 2022. Any comments should be submitted to the Deputy Assistant Secretary for AD/CVD Operations, Enforcement and Compliance, International Trade Administration, via email to CommerceCLU@trade.gov.

This notice is published in accordance with 19 CFR 351.225(o).

Dated: January 31, 2023.
James Maeder,
Deputy Assistant Secretary for Antidumping and Countervailing Duty Operations.

[FR Doc. 2023-02317 Filed 2-2-23; 8:45 am]

BILLING CODE 3510-DS-P